DEPARTMENT OF DEFENSE

Department of the Army

Proposed Collection; Comment Request

AGENCY: Department of the Army, DoD.

ACTION: Notice.

SUMMARY: In compliance with section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 28, 2004.

ADDRESSES: Written comments and recommendations on the proposed information collection should be sent to, Military Surface Deployment and Distribution Command, Carrier Services Branch, 661 Sheppard Place, Fort Eustis, Virginia 23604-1644, or by e-mail to mayoa@sddc.army.mil. Consideration will be given to all comments received within 60 days of the date of publication of this notice.

FOR FURTHER INFORMATION CONTACT: To request more information on this proposed information collection or to obtain a copy of the proposal and associated collection instruments, please write to the above address, or call Department of the Army Reports clearance officer at (703) 325-8433.

Title, Associated Form, and OMB Number: Freight Carrier Registration Program (FCRP); SD Form 410, OMB Control Number (TBD).

Needs and Uses: The FCRP is designed to protect the interest of the Government and to ensure that the Department of Defense deals with responsible carriers having the capability to provide quality and dependable service. Information is vital in determining capability to perform quality service transporting DOD freight. Carriers will furnish SDDC with information to assist in determining through other public records whether the company and its officers are responsible contractors.

Affected Public: Business or other For-Profit.

Annual Burden Hours: 108.

Number of Respondents: 430.

Responses Per Respondent: 1.

Average Burden Per Response: 15 minutes.

Frequency: On occasion.

SUPPLEMENTARY INFORMATION: The Freight Carrier Registration Program will be a minimum burden to the carrier industry. The information SDDC collects can now be accessed through the DOD Web site. That will expedite the time to approve the carrier to do business with the DOD.

Brenda S. Bowen,
Alternate Army Federal Register Liaison Officer.

[FR Doc. 04-17363 Filed 7-29-04; 8:45 am]

BILLING CODE 3710-08-M